DEPARTMENT OF JUSTICE

Antitrust Division

Notice Pursuant to the National Cooperative Research and Production Act of 1993—Cooperative Research Group on Mechanical Stratigraphy and Natural Deformation in Eagle Ford Formation and Equivalent Boquillas Formation, South-Central and West Texas

Notice is hereby given that, on February 23, 2012, pursuant to Section 6(a) of the National Cooperative Research and Production Act of 1993, 15 U.S.C. 4301 et seq. (“the Act”), Southwest Research Institute—Cooperative Research Group on Mechanical Stratigraphy and Natural Deformation in Eagle Ford Formation and Equivalent Boquillas Formation, South-Central and West Texas (“Eagle Ford”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Hess Corporation, Houston, TX; Chesapeake Energy Corporation, Oklahoma City, OK; Newfield Exploration Co., The Woodlands, TX; and ConocoPhillips Company, Houston, TX. The general area of Eagle Ford's planned activity is to understand mechanical stratigraphy and natural deformation in Eagle Ford Formation and equivalent Boquillas Formation in South-Central and West Texas.

Patricia A. Brink,
Director of Civil Enforcement, Antitrust Division.

[FR Doc. 2012-6282 Filed 3-14-12; 8:45 am]

BILLING CODE P